DEPARTMENT OF HOMELAND SECURITY

Federal Emergency Management Agency

[Docket ID FEMA-2013-0029; OMB No. 1660-0005]

Agency Information Collection Activities: Submission for OMB Review; Comment Request

AGENCY: Federal Emergency Management Agency, DHS.

ACTION: Notice.

SUMMARY: The Federal Emergency Management Agency (FEMA) will submit the information collection abstracted below to the Office of Management and Budget for review and clearance in accordance with the requirements of the Paperwork Reduction Act of 1995. The submission will describe the nature of the information collection, the categories of respondents, the estimated burden (i.e., the time, effort and resources used by respondents to respond) and cost, and the actual data collection instruments FEMA will use.

DATES: Comments must be submitted on or before December 5, 2013.

ADDRESSES: Submit written comments on the proposed information collection to the Office of Information and Regulatory Affairs, Office of Management and Budget. Comments should be addressed to the Desk Officer for the Department of Homeland Security, Federal Emergency Management Agency, and sent via electronic mail to oira.submission@omb.eop.gov or faxed to (202) 395-5806.

FOR FURTHER INFORMATION CONTACT: Requests for additional information or copies of the information collection should be made to Director, Records Management Division, 1800 South Bell Street, Arlington, VA 20598-3005, facsimile number (202) 646-3347, or email address FEMA-Information-Collections-Management@dhs.gov.

SUPPLEMENTARY INFORMATION:

Collection of Information

Title: National Flood Insurance Program Claims Forms.

Type of information collection: Revision of a currently approved information collection.

Form Titles and Numbers: FEMA Form 086-0-6; Worksheet-Content-Personal Property; 086-0-7; Worksheet—Building; 086-0-8; Worksheet—Building (Continued); 086-0-9; Proof of Loss; 086-0-10; Increased Cost of Compliance Proof of Loss; 086-0-11; Notice of Loss; 086-0-12; Statement as to Full Cost of Repair or Replacement under the Replacement Cost Coverage, Subject to Terms and Conditions of this Policy; 086-0-13; National Flood Insurance Program Preliminary Report; 086-0-14; National Flood Insurance Program Final Report; 086-0-15; National Flood Insurance Program Narrative Report; 086-0-16; Cause of Loss and Subrogation Report; 086-0-17; Manufactured (Mobile) Home/Travel Trailer Worksheet; 086-0-18; Manufactured (Mobile) Home/Travel Trailer Worksheet (Continued); 086-0-19; Increased Cost of Compliance (ICC) Adjusters Report; 086-0-20; Adjuster Preliminary Damage Assessment; 086-0-21; Adjuster Certification Application; NFIP Claims Appeals Process.

Abstract: The National Flood Insurance Program (NFIP) appeal process establishes a formal mechanism to allow NFIP policyholders to appeal the decisions of any insurance agent, adjuster, insurance company, or any Federal Emergency Management Agency (FEMA) employee or contractor, in cases or unsatisfactory decisions on claims, proof of loss, and loss estimates.

Affected Public: Individuals or households; Farms; and Businesses or other for profit.

Estimated Number of Respondents: 97,242.

Estimated Total Annual Burden Hours: 73,815.

Estimated Cost: There are no recordkeeping, capital, start-up or maintenance costs associated with this information collection.

Dated: October 29, 2013.
Charlene D. Myrthil,
Director, Records Management Division, Mission Support Bureau, Federal Emergency Management Agency, Department of Homeland Security.

[FR Doc. 2013-26395 Filed 11-4-13; 8:45 am]

BILLING CODE 9110-11-P